DEPARTMENT OF ENERGY

Federal Energy Regulatory Commission

18 CFR Part 33

[Docket No. RM19-4-000]

Mergers or Consolidations by a Public Utility; Correction

AGENCY: Federal Energy Regulatory Commission, Department of Energy.

ACTION: Notice of proposed rulemaking; correction.

SUMMARY: This document contains corrections to the Federal Register title for the notice of proposed rulemaking (NOPR) in Docket No. RM19-4-000 that was published in the Federal Register on Thursday, November 29, 2018. This correction clarifies the differences in the titles of the NOPR and the Final Rule that published on February 26, 2019.

DATES: Effective March 4, 2019.

FOR FURTHER INFORMATION CONTACT:

Eric Olesh (Technical Information), Office of Energy Market Regulation, Federal Energy Regulatory Commission, 888 First Street NE, Washington, DC 20426, (202) 502-6524

Regine Baus (Legal Information), Office of the General Counsel, Federal Energy Regulatory Commission, 888 First Street NE, Washington, DC 20426, (202) 502-8757.

SUPPLEMENTARY INFORMATION:

Need for Correction

On November 15, 2018, the Commission issued a “Notice of Proposed Rulemaking” (NOPR), in the above-captioned proceeding. This NOPR published in the Federal Register with the heading titled: Implementation of Amended Section 203(a)(1)(B) of the Federal Power Act.¹

¹ Implementation of Amended Section 203(a)(1)(B) of the Federal Power Act, (83 FR 61338).

On February 21, 2019, the Commission issued a “Final Rule” in the above-captioned proceeding titled: Implementation of Amended Section 203(a)(1)(B) of the Federal Power Act. The title of the Final Rule was flagged by the Federal Register. The Federal Register directed that the title be revised. Accordingly, per the Federal Register's direction, the title of the Final Rule was subsequently changed to “Mergers or Consolidations by a Public Utility.” ² This document serves to correct the Federal Register published title of the NOPR to coincide with the Final Rule published on February 26, 2019.

² Mergers or Consolidations by a Public Utility, (84 FR 6069).

Federal Register Correction

1. Correct the Federal Register title of the NOPR, in the above-captioned proceeding, Implementation of Amended Section 203(a)(1)(B) of the Federal Power Act, to read as follows:

Mergers or Consolidations by a Public Utility

Dated: February 26, 2019.
Kimberly D. Bose,
Secretary.

[FR Doc. 2019-03686 Filed 3-1-19; 8:45 am]

BILLING CODE 6717-01-P